DEPARTMENT OF COMMERCE

National Oceanic and Atmospheric Administration

RIN 0648-XW89

Marine Fisheries Advisory Committee; Public Meetings

AGENCY: National Marine Fisheries Service (NMFS), National Oceanic and Atmospheric Administration (NOAA), Commerce.

ACTION: Notice of open public meeting.

SUMMARY: Notice is hereby given of a meeting of the Marine Fisheries Advisory Committee (MAFAC). This will be the second meeting to be held in the calendar year 2010. Agenda topics are provided under the SUPPLEMENTARY INFORMATION section of this notice. All full Committee sessions will be open to the public.

DATES: The meeting will be held June 29 July 1, 2010, from 8:30 a.m. to 5 p.m.

ADDRESSES: The meeting will be held at the Prospector Hotel, 375 Whittier Street in Juneau, AK 99801; 907-586-3737.

FOR FURTHER INFORMATION CONTACT: Mark Holliday, MAFAC Executive Director; (301) 713-2239 x-120; e-mail: Mark.Holliday@noaa.gov.

SUPPLEMENTARY INFORMATION: As required by section 10(a)(2) of the Federal Advisory Committee Act, 5 U.S.C. App. 2, notice is hereby given of a meeting of MAFAC. MAFAC was established by the Secretary of Commerce (Secretary) on February 17, 1971, to advise the Secretary on all living marine resource matters that are the responsibility of the Department of Commerce. This committee advises and reviews the adequacy of living marine resource policies and programs to meet the needs of commercial and recreational fisheries, and environmental, state, consumer, academic, tribal, governmental and other national interests. The complete charter and summaries of prior meetings are located online at http://www.nmfs.noaa.gov/ocs/mafac/.

Matters To Be Considered

This agenda is subject to change.

The meeting is convened to hear presentations and discuss policies and guidance on the following topics: status of the Deepwater Horizon oil spill and NOAA actions including scientific activities, ensuring seafood safety, assessing ecological and economic impacts, declaration of Federal fishery disasters, and conducting natural resource damage assessments; Office of Protected Resources programs and regulatory responsibilities; development of the draft aquaculture policy; recreational fisheries engagement; and NOAA strategic planning. Updates will be presented on NOAA budgets, catch share policy, enforcement activities, and the Interagency Ocean Policy Task Force. The meeting will include discussion of various MAFAC administrative and organizational matters and meetings of the standing subcommittees.

Special Accommodations

These meetings are physically accessible to people with disabilities. Requests for sign language interpretation or other auxiliary aids should be directed to Mark Holliday, MAFAC Executive Director; (301) 713-2239 x120 by 5 p.m. on June 16, 2010.

Dated: June 7, 2010.
Eric C. Schwaab,
Assistant Administrator for Fisheries, National Marine Fisheries Service.

[FR Doc. 2010-14082 Filed 6-10-10; 8:45 am]

BILLING CODE 3510-22-S